FEDERAL COMMUNICATIONS COMMISSION

47 CFR Part 73

[DA 03-79, MB Docket No. 02-129, RM-10437]

Digital Television Broadcast Service; Wilmington, NC

AGENCY: Federal Communications Commission.

ACTION: Final rule.

SUMMARY: The Commission, at the request of Raycom America, Inc., licensee of station WECT(TV), substitutes DTV channel 44 for DTV channel 54 at Wilmington, North Carolina. See 67 FR 39933, June 11, 2002. DTV channel 44 can be allotted to Wilmington in compliance with the principle community coverage requirements of Section 73.625(a) at reference coordinates 34-19-16 N. and 78-13-43 W. with a power of 33, HAAT of 290 meters and with a DTV service population of 328 thousand. With this action, this proceeding is terminated.

DATES: Effective March 3, 2003.

FOR FURTHER INFORMATION CONTACT: Pam Blumenthal, Media Bureau, (202) 418-1600.

SUPPLEMENTARY INFORMATION: This is a synopsis of the Commission's Report and Order, MB Docket No. 02-129, adopted January 10, 2003, and released January 16, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under North Carolina, is amended by removing DTV channel 54 and adding DTV channel 44 at Wilmington.

Federal Communications Commission.
Barbara A. Kreisman,
Chief, Video Division, Media Bureau.

[FR Doc. 03-1196 Filed 1-10-03; 8:45 am]

BILLING CODE 6712-01-U